FEDERAL RESERVE SYSTEM

Agency Information Collection Activities: Announcement of Board Approval Under Delegated Authority and Submission to OMB

SUMMARY: Background. Notice is hereby given of the final approval of a proposed information collection by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer—Michelle Shore—Division of Research and Statistics, Board of Governors of the Federal Reserve System, Washington, DC 20551 (202-452-3829).

OMB Desk Officer—Shagufta Ahmed—Office of Information and Regulatory Affairs, Office of Management and Budget, New Executive Office Building, Room 10235, Washington, DC 20503.

Report title: Reporting and Disclosure Requirements Associated with the Policy on Payments System Risk.

Agency form number: FR 4102.

OMB control number: 7100-0315.

Frequency: Biennial.

Reporters: Payment and securities settlement systems.

Estimated annual reporting hours: 210 hours.

Estimated average hours per response: 70 hours.

Number of respondents: 3.

General description of report: This information collection is mandatory and authorized pursuant the Federal Reserve Act (12 U.S.C. 248(i) & (j), 342, 248(o), 360, and 464). Also, in order to carry out the purposes of the Expedited Funds Availability Act, Public Law 100-86, 101 Stat. 635 (1985) (codified as amended at 12 U.S.C. 4001-4010), the Federal Reserve is given the authority to “regulate any aspect of the payment system.” 12 U.S.C. 4008(c)(1). Because the self-assessments are to be publicly disclosed and because the Federal Reserve will not collect any information pursuant to this information collection beyond what is made publicly available, no confidentiality issue arises with regard to the FR 4102.

Abstract: The FR 4102 was implemented in January 2007 as a result of revisions to the Federal Reserve's Payments System Risk (PSR) policy. Under the revised policy, systemically important payments and settlement systems subject to the Federal Reserve's authority are expected to complete and disclose publicly self-assessments against the principles and minimum standards in the policy. The self-assessment should be reviewed and approved by the system's senior management and board of directors upon completion and made readily available to the public. In addition, a self-assessment should be updated following material changes to the system or its environment and, at a minimum, reviewed by the system every two years.

Current Actions: On April 23, 2010, the Federal Reserve published a notice in the Federal Register (75 FR 21293) seeking public comment for 60 days on the proposal to extend, without revision, the FR4102. The comment period for this notice expired on June 22, 2010. The Federal Reserve did not receive any comments.

Board of Governors of the Federal Reserve System, dated: June 28, 2010.
Robert deV. Frierson,
Deputy Secretary of the Board.

[FR Doc. 2010-15994 Filed 6-30-10; 8:45 am]

BILLING CODE 6210-01-P